Presidential Determination No. 2010-01 of October 8, 2009

Waiver of and Certification of Statutory Provisions Regarding the Palestine Liberation Organization Office

Memorandum for the Secretary of State

Pursuant to the authority and conditions contained in section 7034(b) of the Department of State, Foreign Operations, and Related Programs Appropriations Act, 2009 (Division H, Public Law 111-8), as carried forward by the Continuing Appropriations Resolution, 2010 (Division B, Public Law 111-68), I hereby determine and certify that it is important to the national security interest of the United States to waive the provisions of section 1003 of the Anti-Terrorism Act of 1987, Public Law 100-204.

This waiver shall be effective for a period of 6 months. You are hereby authorized and directed to transmit this determination to the Congress and to publish it in the Federal Register.

THE WHITE HOUSE,

Washington, October 8, 2009

[FR Doc. E9-24955

Filed 10-14-09; 8:45 am]

Billing code 4710-10-P